ENVIRONMENTAL PROTECTION AGENCY

[EPA-HQ-OW-2007; FRL-8442-1]

2007 Water Efficiency Leader Awards—Call for Applicants

AGENCY: Environmental Protection Agency (EPA).

ACTION: Notice.

SUMMARY: This notice announces the opening of the application period for the U.S. EPA's second annual Water Efficiency Leader Awards. The awards recognize those organizations and individuals who are providing leadership and innovation in water efficient products and practices. These awards are intended to help foster a nationwide ethic of water efficiency, as well as to inspire, motivate, and recognize efforts to improve water efficiency. This program will enable EPA to document “best practices”, share information, encourage an ethic of water efficiency, and create a network of water efficiency leaders. Recognition will be given on the basis of persuasive community or organizational leadership in the area of water efficiency, originality and innovativeness, national/global perspective and implications, and overall improvements in water efficiency. Actual (as opposed to anticipated) results are preferred and applicants should be able to demonstrate the amount of water saved. Candidates may be from anywhere in the United States, they may work in either the public or the private sector, and they may be either self-nominated or nominated by a third party. The following sectors are encouraged to apply: Corporations, Industry, Individuals, Non-Governmental Organizations and other Associations, Institutions, and Teams, Local, State, Tribal, and Federal Governments, and Military Individuals and Organizations. In order to be considered, applicants must have a satisfactory compliance record with respect to environmental regulations and requirements. Applications will be judged by a panel of national water efficiency experts from a variety of sectors. The panelists will provide recommendations to EPA, who will then make the final decision. EPA reserves the right to contact nominees for additional information should it be deemed necessary.

To Apply: Send a one page description (single sided) of the water efficient project being nominated. Also send a completed and signed application form found at http://www.epa.gov/water/wel.

DATES: Applications must be postmarked by August 17, 2007 in order to be considered.

ADDRESSES: Send applications to: Bob Rose, 1200 Pennsylvania Ave., NW., Mail Code 4101M, Washington, DC 20460. Additional information on the recognition program is available at www.epa.gov/water/wel.

FOR FURTHER INFORMATION CONTACT: Bob Rose, Telephone: (202) 564-0322. E-mail: rose.bob@epa.gov.

Dated: July 16, 2007.
Benjamin H. Grumbles,
Assistant Administrator for Water.

[FR Doc. E7-14062 Filed 7-19-07; 8:45 am]

BILLING CODE 6560-50-P